DEPARTMENT OF ENERGY

Federal Energy Regulatory Commission

[Project No. 1494-232—Oklahoma]

Grand River Dam Authority; Notice of Availability of Draft Environmental Assessment

September 19, 2002.

In accordance with the National Environmental Policy Act of 1969, as amended, and the Federal Energy Regulatory Commission's (Commission) regulations (18 CFR part 380), Commission staff have reviewed an application for non-project use of project lands and waters at the Pensacola Project (FERC No. 1494), and have prepared a draft Environmental Assessment (EA) on the application. The project is located on the Grand (Neosho) River in Craig, Delaware, Mayes, and Ottawa Counties, Oklahoma.

Specifically, the project licensee (Grand River Dam Authority) has requested Commission approval to permit Joe Harwood d/b/a Arrowhead Investment & Development Company to expand and modernize an existing marina located on the Duck Creek arm of Grand Lake, the project reservoir. In the draft EA, Commission staff have analyzed the probable environmental effects of the proposed marina improvements and have concluded that approval of the proposal, with appropriate environmental measures, would not constitute a major Federal action significantly affecting the quality of the human environment.

Copies of the draft EA are available for review in Public Reference Room 2-A of the Commission's offices at 888 First Street, NE, Washington, DC. The draft EA also may be viewed on the Commission's Internet Web site (www.ferc.gov) using the “FERRIS” link. Additional information about the project is available from the Commission's Office of External Affairs, at (202) 502-8004, or on the Commission's website using the FERRIS link. Click on the FERRIS link, enter the docket number excluding the last three digits in the Docket Number field. Be sure you have selected an appropriate date range. For assistance with FERRIS, the FERRIS helpline can be reached at (202) 502-8222, TTY (202) 502-8659. The FERRIS link on the FERC's Internet website also provides access to the texts of formal documents issued by the Commission, such as orders, notices, and rulemakings.

Any comments on the draft EA should be filed within 30 days of the date of this notice and should be addressed to Magalie R. Salas, Secretary, Federal Energy Regulatory Commission, 888 First Street, NE., Washington, DC 20426. Please reference “Pensacola Project, FERC Project No. 1494-232” on all comments. Comments may be filed electronically via the Internet in lieu of paper. See, 18 CFR 385.2001(a)(1)(iii) and the instructions on the Commission's Web site under the “e-Filing” link.

Linwood A. Watson, Jr.,
Deputy Secretary.

[FR Doc. 02-24323 Filed 9-25-02; 8:45 am]

BILLING CODE 6717-01-P